DEPARTMENT OF ENERGY

Federal Energy Regulatory Commission

[Docket No. CP17-178-000]

Alaska Gasline Development Corporation; Notice of Availability of the Final Environmental Impact Statement for the Proposed Alaska LNG Project

The staff of the Federal Energy Regulatory Commission (FERC or Commission) with the participation of the cooperating agencies listed below, has prepared a final environmental impact statement (EIS) for the Alaska LNG Project (Project) proposed by the Alaska Gasline Development Corporation (AGDC). Under Section 3 of the Natural Gas Act, AGDC requests authorization to construct and operate new gas treatment facilities, an 806.9-mile-long natural gas pipeline and associated aboveground facilities, and a 20 million-metric-ton per annum liquefaction facility to commercialize the natural gas resources of Alaska's North Slope. The Project would have an annual average inlet design capacity of up to 3.7 billion standard cubic feet per day and a 3.9 billion standard cubic feet per day peak capacity.

The EIS assesses the potential environmental effects of Project construction and operation in accordance with the requirements of the National Environmental Policy Act (NEPA). As described in the EIS, FERC staff concludes that approval of the Project would result in a number of significant environmental impacts; however, the majority of impacts would be less than significant based on the impact avoidance, minimization, and mitigation measures proposed by AGDC; AGDC's commitments to additional measures; and measures recommended by staff in the final EIS. However, some of the adverse impacts would be significant even after the implementation of mitigation measures.

The United States (U.S.) Department of Transportation Pipeline and Hazardous Material Safety Administration, U.S. Environmental Protection Agency, U.S. Army Corps of Engineers, U.S. Coast Guard, Bureau of Land Management (BLM), U.S. Fish and Wildlife Service, National Park Service (NPS), U.S. Department of Energy, and National Marine Fisheries Service participated as cooperating agencies in the preparation of this final EIS. Cooperating agencies have jurisdiction by law or special expertise with respect to resources potentially affected by the proposal and participate in the NEPA analysis. Although the cooperating agencies provided input to the conclusions and recommendations presented in the EIS, the agencies will present their own conclusions and recommendations in their respective Records of Decision for the Project.

The BLM and NPS will adopt and use the EIS to consider issuing a right-of-way grant for the portions of the Project on BLM- and NPS-managed lands, respectively. Other cooperating agencies will use this EIS in their regulatory processes and to satisfy compliance with NEPA and other related federal environmental laws (e.g., the National Historic Preservation Act).

Section 810(a) of the Alaska National Interest Lands Conservation Act, 16 United States Code 3120(a), also requires the BLM to evaluate the effects of the alternatives presented in the EIS on subsistence activities, and to hold public hearings if it finds that any alternative may significantly restrict subsistence uses. The evaluation of subsistence impacts indicates that the cumulative case analyzed in the EIS could significantly restrict subsistence uses for the communities of Nuiqsut, Kaktovik, Utqiagvik, and Anaktuvuk Pass. Therefore, the BLM held public hearings and solicited public testimony for these potentially affected communities.

The Commission mailed a copy of the final EIS to federal, state, and local government representatives and agencies; elected officials; Alaska Native tribal governments and Alaska Native Claims Settlement Act Corporations; and local libraries and newspapers in the area of the Project. The final EIS was also mailed to property owners that could be affected by Project facilities, individuals requesting intervenor status in FERC's proceedings, and other interested parties (i.e., individuals and environmental and public interest groups who provided scoping comments or asked to remain on the mailing list). Paper copy and CD versions of the final EIS were mailed to subsistence communities, libraries, and those specifically requesting them; all others received a CD version.

The final EIS is also available in electronic format. It may be viewed and downloaded from FERC's website (www.ferc.gov) on the Environmental Documents page (http://www.ferc.gov/industries/gas/enviro/eis.asp). In addition, the final EIS may be accessed by using the eLibrary link on FERC's website. Click on the eLibrary link (https://www.ferc.gov/docs-filing/elibrary.asp), then click on General Search and enter the docket number in the Docket Number field, excluding the last three digits (i.e., CP17-178). Be sure you have selected an appropriate date range. For assistance, please contact FERC Online Support at FercOnlineSupport@ferc.gov or toll free at (866) 208-3676, or for TTY, contact (202) 502-8659.

Questions

Additional information about the Project is available from the Commission's Office of External Affairs, at (866) 208-FERC, or on the FERC website (www.ferc.gov) using the eLibrary link. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: March 6, 2020.
Kimberly D. Bose,
Secretary.

[FR Doc. 2020-05071 Filed 3-11-20; 8:45 am]

BILLING CODE 6717-01-P